DEPARTMENT OF STATE

[Public Notice 3297]

Culturally Significant Objects Imported for Exhibition Determinations: “Arms and Armor of 17th Century Virginia”

AGENCY: Department of State.

ACTION: Notice.

SUMMARY: Notice is hereby given of the following determinations: Pursuant to the authority vested in me by the Act of October 19, 1965 (79 Stat. 985, 22 U.S.C. 2459), the Foreign Affairs Reform and Restructuring Act of 1998 (112 Stat. 2681, et seq.), Delegation of Authority No. 234 of October 1, 1999, and Delegation of Authority of October 19, 1999, I hereby determine that the object to be included in the exhibition “Arms and Armor of 17th Century Virginia,” imported from abroad for the temporary exhibition without profit within the United States, is of cultural significance. This object is imported pursuant to a loan agreement with a foreign lender. I also determine that the exhibition or display of the exhibit object at the Jamestown Settlement Museum, Williamsburg, VA from on or about May 1 to October 31, 2000 is in the national interest. Public Notice of these Determinations is ordered to be published in the Federal Register.

FOR FURTHER INFORMATION CONTACT: For further information, including a list of exhibit objects, contact Jacqueline Caldwell, Attorney-Adviser, Office of the Legal Adviser, U.S. Department of State (telephone: 202/619-6982). The address is U.S. Department of State, SA-44; 301 4th Street, SW., Room 700, Washington, DC 20547-0001.

Dated: April 18, 2000.
William P. Kiehl,
Acting Assistant Secretary for Educational and Cultural Affairs, Department of State.

[FR Doc. 00-10284 Filed 4-24-00; 8:45 am]

BILLING CODE 4710-08-U